DEPARTMENT OF HOMELAND SECURITY

Transportation Security Administration

Intent To Request Renewal From OMB of One Current Public Collection of Information: Aircraft Operator Security

AGENCY: Transportation Security Administration, DHS.

ACTION: 60 Day Notice.

SUMMARY: The Transportation Security Administration (TSA) invites public comment on an existing information collection requirement abstracted below that will be submitted to the Office of Management and Budget (OMB) for renewal in compliance with the Paperwork Reduction Act. The collection requires aircraft operators to adopt and implement a TSA-approved security program. These programs require aircraft operators to maintain and update records to ensure compliance with security provisions outlined in 49 CFR part 1544.

DATES: Send your comments by December 9, 2008.

ADDRESSES: Comments may be mailed or delivered to Joanna Johnson, Communications Branch, Business Management Office, Operational Process and Technology, TSA-32, Transportation Security Administration, 601 South 12th Street, Arlington, VA 22202-4220.

FOR FURTHER INFORMATION CONTACT: Joanna Johnson at the above address, or by telephone (571) 227-3651 or facsimile (571) 227-3588.

SUPPLEMENTARY INFORMATION:

Comments Invited

In accordance with the Paperwork Reduction Act of 1995 (44 U.S.C. 3501 et seq.), an agency may not conduct or sponsor, and a person is not required to respond to, a collection of information unless it displays a valid OMB control number. The Information Collection Requirement (ICR) documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

TSA is seeking to renew its OMB control number, 1652-0003, Aircraft Operator Security. TSA has implemented aircraft operator security standards at 49 CFR part 1544 which require each aircraft operator to which this part applies to adopt and implement a security program. As part of these security programs, affected aircraft operators are required to maintain and update, as necessary, records of compliance with the security program provisions outlined in 49 CFR part 1544. This regulation also requires affected aircraft operators to make their security programs and associated records available for inspection by TSA to ensure transportation security and regulatory compliance. Under this regulation, aircraft operators must ensure that flight crew members and employees with unescorted access authority or who perform screening functions (1) submit to a criminal history records check (CHRC); (2) conduct the CHRC; and (3) require the individual to provide identifying information, including fingerprints. The collection requirements associated with aircraft operator security programs remain critical in the aftermath of the terrorist attacks of September 11, 2001. The current estimated annual reporting burden for approximately 66 respondent air carriers is 34,320 hours.

Issued in Arlington, Virginia, on October 7, 2008.
Kurt Guyer,
Acting Program Manager, Business Improvements and Communications,Office of Information Technology.

[FR Doc. E8-24170 Filed 10-9-08; 8:45 am]

BILLING CODE 9110-05-P